NUCLEAR REGULATORY COMMISSION

[Docket No. 50-219; NRC-2010-0200]

Exelon Generation Company, LLC., Oyster Creek Nuclear Generating Station; Exemption

AGENCY: Nuclear Regulatory Commission.

ACTION: Notice of Issuance; Correction.

SUMMARY: This document corrects a notice appearing in the Federal Register on April 7, 2011 (76 FR 19488), that incorrectly described Sections 3.9.2 and 3.18.2, “Detection, Control, and Extinguishment.” This action is necessary to correct erroneous information.

FOR FURTHER INFORMATION CONTACT: John G. Lamb, Office of Nuclear Reactor Regulation, U.S. Nuclear Regulatory Commission, Washington, DC 20555-0001; telephone 301-415-3100, email: John.Lamb@nrc.gov.

SUPPLEMENTARY INFORMATION: On page 19497, in the first column, in the third complete paragraph, it is corrected to read from “The licensee stated that RB-FZ-1E has an area-wide smoke detection system and an automatic fixed deluge water spray system installed over cable trays and open hatches. The deluge suppression system protecting safety-related cable trays is automatically activated by a cross-zoned detection system consisting of linear heat detection wire located on top of the cables in each original safety-related cable trays and smoke detectors are located in each beam pocket at the ceiling” to, “The licensee stated that RB-FZ-1E has a smoke detection system and an automatic fixed deluge water spray system installed over cable trays and open hatches. The deluge suppression system protecting safety-related cable trays is automatically activated by a cross-zoned detection system.”

On page 19505, in the first column, in the first complete paragraph, it is corrected to read from “The licensee stated that a closed head automatic sprinkler and spray systems protect the south end basement area and the hydrogen seal oil unit” to “The closed head automatic sprinkler system in the condenser bay area was designed, installed and tested in accordance with NFPA 13, 1976 Edition, which was the latest edition of this code at the time of design.”

Dated in Rockville, Maryland, this 9th day of November 2012.
For the Nuclear Regulatory Commission.
Michele G. Evans,
Director, Division of Operating Reactor Licensing, Office of Nuclear Reactor Regulation.

[FR Doc. 2012-28074 Filed 11-16-12; 8:45 am]

BILLING CODE 7590-01-P